DEPARTMENT OF COMMERCE

International Trade Administration

[A-475-818, A-489-805]

Certain Pasta from Italy and Turkey: Extension of Final Results of Antidumping Duty Administrative Reviews

AGENCY: Import Administration, International Trade Administration, Department of Commerce.

EFFECTIVE DATE: November 1, 2001.

FOR FURTHER INFORMATION CONTACT: Lyman Armstrong at (202) 482-3601, Office of AD/CVD Enforcement VI, Group II, Import Administration, International Trade Administration, U.S. Department of Commerce, 14th Street and Constitution Ave, NW., Washington, DC 20230.

Time Limits

Statutory Time Limits

Section 751(a)(3)(A) of the Tariff Act of 1930, as amended (the Act), requires the Department to issue (1) the preliminary results of a review within 245 days after the last day of the month in which occurs the anniversary of the date of publication of an order or finding for which a review is requested, and (2) the final results within 120 days after the date on which the preliminary results are published. However, if it is not practicable to complete the review within that time period, section 751(a)(3)(A) of the Act allows the Department to extend the time limit for the preliminary results to a maximum of 365 days and the final results to a maximum of 180 days (or 300 days if the Department does not extend the time limit for the preliminary results) from the date of the publication of the preliminary results.

Background

On September 6, 2000, the Department published a notice of initiation of the administrative reviews of the antidumping duty orders on certain pasta from Italy and Turkey, covering the period July 1, 1999 to June 30, 2000 (65 FR 53980). On June 28, 2001, the Department issued the preliminary results of these reviews (66 FR 34414, 66 FR 34410). The final results are currently due no later than October 26, 2001.

Extension of Final Results of Reviews

We determine that it is not practicable to complete the final results of these reviews within the original time limits. Therefore, we are extending the time limits for completion of the final results until no later than December 25, 2001. See Decision Memorandum from Melissa Skinner to Holly Kuga, dated October 26, 2001, which is on file in the Central Records Unit, B-099 of the main Commerce Building.

This extension is in accordance with section 751(a)(3)(A) of the Act.

Dated: October 26, 2001.
Holly Kuga,
Acting Deputy Assistant Secretary for Import Administration.

[FR Doc. 01-27482 Filed 10-31-01; 8:45 am]

BILLING CODE 3510-DS-P